DEPARTMENT OF HOUSING AND URBAN DEVELOPMENT

24 CFR Parts 5, 92, 200 236, 574, 582, 583, 891, 982

[Docket No. FR-4608-F-03]

RIN 2501-AC72

Determining Adjusted Income in HUD Programs Serving Persons With Disabilities: Requiring Mandatory Deductions for Certain Expenses; and Disallowance for Earned Income; Delay of Effective Date

AGENCY: Office of the Secretary, HUD.

ACTION: Final rule; delay of effective date.

SUMMARY: This document advises the public that the final rule published on January 19, 2001, which amends HUD's regulations in part 5, subpart F, to include additional HUD programs in the list of programs that must make certain deductions in calculating a family's adjusted income, will take effect on April 20, 2001. As provided in the “Supplementary Information” section of this final rule, this delay in the effective date is made in response to a White House memorandum of January 20, 2001. Given the imminence of the effective date of this rule, seeking prior public comment in accordance with HUD's regulations on rulemaking would have been impractical, as well as contrary to the public interest in the orderly promulgation and implementation of regulations.

DATES: The effective date of the final rule amending 24 CFR parts 5, 92, 200, 236, 574, 582, 583, 891, and 982, published at 66 FR 6218 (January 19, 2001) is delayed from February 20, 2001 until April 20, 2001.

FOR FURTHER INFORMATION CONTACT: For the HOME Investment Partnerships Program, contact Mary Kolesar, Office of Community Planning and Development, Department of Housing and Urban Development, 451 Seventh Street, SW., Washington, DC, 20410, telephone (202) 708-2470.

For the Housing Choice Voucher Program, contact Patricia Arnaudo, Office of Public and Indian Housing, Department of Housing and Urban Development, 451 Seventh Street, SW., Washington, DC, 20410, telephone (202) 708-0744.

For the Housing Opportunities for Persons with AIDS Program, contact David Vos, Office of Community Planning and Development, Department of Housing and Urban Development, 451 Seventh Street, SW., Washington, DC, 20410, telephone (202) 708-1934.

For the Rent Supplement Program, contact, Willie Spearmon, Office of Housing, Department of Housing and Urban Development, 451 Seventh Street, SW., Washington, DC 20410; telephone (202) 708-3000.

For the Rental Assistance Payment (RAP) Program, contact Willie Spearmon, Office of Housing, Department of Housing and Urban Development, 451 Seventh Street, SW., Washington, DC 20410; telephone (202) 708-3000.

For the Section 202 Supportive Housing Program for the Elderly (including Section 202 Direct Loans for Housing for the Elderly and Persons with Disabilities), contact Aretha Williams, Office of Housing, Department of Housing and Urban Development, 451 Seventh Street, SW., Washington, DC 20410, telephone (202) 708-2866.

For Section 8 Project-Based, contact Willie Spearmon, Office of Housing, Department of Housing and Urban Development, 451 Seventh Street, SW., Washington, DC 20410; telephone (202) 708-3000.

For the Section 811 Supportive Housing Program for Persons with Disabilities, contact Gail Williamson, Office of Housing, Department of Housing and Urban Development, 451 Seventh Street, SW., Washington, DC 20410, telephone (202) 708-2866.

For the Shelter Plus Care Program, contact the State Assistance Division, Office of Community Planning and Development, Department of Housing and Urban Development, 451 Seventh Street, SW., Washington, DC, 20410, telephone (202) 708-2140.

For the Supportive Housing Program (McKinney-Vento Act Homeless Assistance), contact Clifford Taffet, Office of Community Planning and Development, Department of Housing and Urban Development, 451 Seventh Street, SW., Washington, DC, 20410, telephone (202) 708-1234.

For all of the above telephone numbers, persons with hearing or speech-impairments may call 1-800-877-8339 (Federal Information Relay Service TTY). (Other than the “800” number, the telephone numbers are not toll-free numbers.)

SUPPLEMENTARY INFORMATION: On January 19, 2001 (66 FR 6218), HUD published a final rule amending its regulations in part 5, subpart F, to include additional HUD programs in the list of programs that must make certain deductions in calculating a family's adjusted income. These deductions primarily address expenses related to a person's disability, for example medical expenses or attendant care expenses. The purpose of the January 19, 2001 final rule is to expand the benefits of these deductions to persons with disabilities served by HUD programs not currently covered by part 5, subpart F. Second, the final rule adds a new regulatory section to part 5 to require for some but not all of these same programs the disallowance of increases in income as a result of earnings by persons with disabilities. The January 19, 2001 final rule follows publication of a August 21, 2000 proposed rule, and takes into consideration public comments received on the rule.

The January 19, 2001 final rule provides for the rule to take effect on February 20, 2001. On January 20, 2001, the White House issued a memorandum to the heads and acting heads of all Executive Departments and Agencies regarding regulatory review. The January 20, 2001 memorandum instructs the agencies to temporarily postpone the effective dates of their regulations that have been published in the Federal Register but have not yet taken effect by 60 days. Consistent with the directive of the January 20, 2001 White House memorandum, the purpose of this document is to give notice that the effective date of the January 19, 2001 final rule has been changed to April 20, 2001.

Accordingly, HUD's final rule published on January 19, 2001 at 66 FR 6218 (Docket No. FR-4608-F-02, FR Doc. 01-1536) will take effect on April 20, 2001.

Dated: January 24, 2001.
Mel Martinez,
Secretary.

[FR Doc. 01-2563 Filed 1-29-01; 8:45 am]

BILLING CODE 4210-32-P